JUDICIAL CONFERENCE OF THE UNITED STATES

Hearing of the Judicial Conference Advisory Committee on Rules of Appellate Procedure

AGENCY: Judicial Conference of the United States, Advisory Committee on Rules of Appellate Procedure.

ACTION: Revised Notice of Proposed Amendments and Open Hearing.

Federal Register Citation of Previous Announcements: 79FR 48250, 79FR 72702 and 80FR 41.

Please note: The public hearing on the amendments to the Appellate Rules and Forms previously scheduled in Washington, DC for March 6, 2015, was canceled due to weather conditions. That public hearing has been rescheduled for April 1, 2015, at 10:00 a.m. in the Mecham Center of the Thurgood Marshall Federal Judiciary Building, One Columbus Circle NE., Washington, DC 20544.

SUMMARY: The Advisory Committee on Rules of Appellate Procedure has proposed amendments to the following rules and forms:

Appellate Rules 4, 5, 21, 25, 26, 27, 28.1, 29, 32, 35, and 40, and Forms 1, 5, 6, and New Form 7.

Written comments and suggestions with respect to the proposed amendments were accepted from August 15, 2014 through February 17, 2015. In accordance with established procedures, all comments submitted are available for public inspection and can be found along with the text of the proposed rules amendments and the accompanying Committee Notes at the United States Federal Courts' Web site at http://www.uscourts.gov/rulesandpolicies/rules/proposed-amendments.aspx.

FOR FURTHER INFORMATION CONTACT: Rebecca A. Womeldorf, Secretary, Committee on Rules of Practice and Procedure of the Judicial Conference of the United States, Thurgood Marshall Federal Judiciary Building, One Columbus Circle NE., Suite 7-240, Washington, DC 20544, Telephone (202) 502-1820.

Dated: March 6, 2015.
Rebecca A. Womeldorf,
Rules Committee Officer, Rules Committee Support Office.

[FR Doc. 2015-05598 Filed 3-11-15; 8:45 am]

BILLING CODE 2210-55-P